FEDERAL COMMUNICATIONS COMMISSION

[GN Docket No. 17-208; FRS 17381]

Meeting of the Communications Equity and Diversity Council

AGENCY: Federal Communications Commission.

ACTION: Notice.

SUMMARY: In accordance with the Federal Advisory Committee Act, this notice announces the February 23, 2022, meeting of the Federal Communications Commission's (Commission) Communications Equity and Diversity Council (CEDC or Council).

DATES: Wednesday, February 23, from 10:00 a.m. ET to 4:00 p.m. ET.

ADDRESSES: The CEDC meeting will be held virtually and be available to the public for viewing via the internet at http://www.fcc.gov/live.

FOR FURTHER INFORMATION CONTACT: Jamila Bess Johnson, Designated Federal Officer (DFO) of the CEDC, (202) 418-2608, Jamila-Bess.Johnson@fcc.gov; Rashann Duvall, Co-Deputy DFO of the CEDC, (202) 418-1438, Rashann.Duvall@fcc.gov; or, Keyla Hernandez-Ulloa, Co-Deputy DFO of the CEDC, (202) 418-0965, Keyla.Hernandez-Ulloa@fcc.gov.

SUPPLEMENTARY INFORMATION: Proposed Agenda: The agenda for the meeting will include a discussion of the proposed workstreams for the three CEDC working groups (Innovation and Access, Digital Empowerment and Inclusion, and Diversity and Equity) during the two-year charter. The workstreams will provide a roadmap for how each working group will support the Council's mission to make recommendations to the Commission on advancing equity in the provision of, and access to, digital communication services and products for all people of the United States, without discrimination on the basis of race, color, religion, national origin, sex, or disability. This agenda may be modified at the discretion of the CEDC Chair and the DFO. The CEDC meeting will be accessible to the public on the internet via live feed from the Commission's web page at www.fcc.gov/live. Members of the public may submit questions during the meeting to livequestions@fcc.gov. Oral statements at the meeting by parties or entities not represented on the CEDC will be permitted to the extent time permits and at the discretion of the CEDC Chair and the DFO.

Members of the public may submit comments to the CEDC using the FCC's Electronic Comment Filing System, ECFS, at www.fcc.gov/ecfs. Comments to the CEDC should be filed in GN Docket No. 17-208.

Open captioning will be provided for this event. Other reasonable accommodations for persons with disabilities are available upon request. Requests for such accommodations should be submitted via email to fcc504@fcc.gov or by calling the Consumer and Governmental Affairs Bureau at (202) 418-0530 (voice), (202) 418-0432 (TTY). Such requests should include a detailed description of the accommodation needed. In addition, please include a way for the Commission to contact the requester if more information is needed to fulfill the request. Please allow at least five days' notice; last minute requests will be accepted but may not be possible to accommodate.

Federal Communications Commission.
Thomas Horan,
Chief of Staff, Media Bureau.

[FR Doc. 2022-02335 Filed 2-3-22; 8:45 am]

BILLING CODE 6712-01-P